DEPARTMENT OF VETERANS AFFAIRS

[OMB Control No. 2900-0864]

Agency Information Collection Activity Under OMB Review: Department of Veterans Affairs (VA) Post-Separation Transition Assistance Program (TAP) Assessment

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0864”.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0864” in any correspondence.

SUPPLEMENTARY INFORMATION:

Authority: Executive Order 13571—Streamlining Service Delivery and Improving Customer Service.

Title: Department of Veterans Affairs (VA) Post-Separation Transition Assistance Program (TAP) Assessment.

OMB Control Number: 2900-0864.

Type of Review: Extension of a currently approved collection.

Abstract: The PSTAP Assessment is administered by VA to assess how the TAP training for Transitioning Service members (TSMs) prepares Veterans for civilian life and its effects on long-term Veteran outcomes. This information collection request (ICR) is conducted once per year and is designed as two separate collections which include a Cross-Sectional Survey and a Longitudinal Survey. The survey population for the Cross-Sectional Survey includes all Veterans who meet the criteria at the time of fielding of having separated from the military at six months, one year, and three years prior to the date that surveys. Service members who participated in the Cross-Sectional Survey and voluntarily agreed to participate in the Longitudinal Survey make up the Longitudinal Survey population. VA will use email and mail methods to administer the survey, limiting the burden on respondents. The surveys will be administered to gauge the long-term effectiveness of the Transition Assistance Program (TAP) by: (1) examining the relationship between attendance in TAP courses and the use of VA Benefits; (2) analyzing the effect of participation in TAP courses on the long-term outcomes of Veterans in the broad life domains of employment, education, health and social relationships, financial, social connectivity and overall satisfaction and well-being, and; (3) identifying areas of improvement for TAP and the broader transition process to guide training and/or operational activities aimed at enhancing the quality of service provided to transitioning service members, Veterans, their families and caregivers.

An agency may not conduct or sponsor, and a person is not required to respond to a collection of information unless it displays a currently valid OMB control number. The Federal Register Notice with a 60-day comment period soliciting comments on this collection of information was published at 87 FR 38458 on June 28, 2022, pages 38458 and 38459.

Affected Public: Individuals.

Estimated Annual Burden: 5,954 hours.

Estimated Average Burden per Respondent: 18.5 minutes.

Frequency of Response: Annual.

Estimated Number of Respondents: 19,311.

By direction of the Secretary.
Dorothy Glasgow,
VA PRA Clearance Officer, (Alt.) Office of Enterprise and Integration, Data Governance Analytics, Department of Veterans Affairs.

[FR Doc. 2022-19784 Filed 9-12-22; 8:45 am]

BILLING CODE 8320-01-P